DEPARTMENT OF LABOR

Employment and Training Administration

TA-W-82,634, Prudential Global Business Technology Solutions Central Security Services Dresher, Pennsylvania; TA-W-82,634A, Prudential Global Business Technology Solutions Central Security Services Iselin, New Jersey; TA-W-82,634B, Prudential Global Business Technology Solutions Central Security Services Plymouth, Minnesota; TA-W-82,634C, Prudential Global Business Technology Solutions Central Security Services Scottsdale, Arizona; TA-W-82,634D, Prudential Global Business Technology Solutions Central Security Services Roseland, New Jersey; TA-W-82,634E, Prudential Global Business Technology Solutions Central Security Services Jacksonville, Florida; TA-W-82,634F, Prudential Global Business Technology Solutions Central Security Services New York, New York; Amended Certification Regarding Eligibility To Apply for Worker Adjustment Assistance

In accordance with Section 223 of the Trade Act of 1974, as amended (“Act”), 19 U.S.C. 2273, the Department of Labor issued a Certification of Eligibility to Apply for Worker Adjustment Assistance on June 10, 2013, applicable to workers of Prudential, Global Business Technology Solutions, Central Security Services, Dresher, Pennsylvania (TA-W-82,634), Iselin, New Jersey (TA-W-82,634A), Plymouth, Minnesota (TA-W-82,634B), Scottsdale, Arizona (TA-W-82,634C), Roseland, New Jersey (TA-W-82,634D) and Jacksonville, Florida (TA-W-82,634E). The workers are engaged in activities related to the supply of infrastructure technology services that support Prudential's supply of financial services. The notice will be published soon in the Federal Register.

At the request of a petitioner, the Department reviewed the certification for workers of the subject firm. New information from the company shows that Ms. Lydia Svendsen, an employee of the Central Security Services department of Global Business Technology Solutions, was based out of the New York, New York location of Prudential.

The intent of the Department's certification is to include all workers of the subject firm who were adversely affected by a shift in the supply of infrastructure technology services to Ireland.

Based on these findings, the Department is amending this certification to include Prudential, Global Business Technology Solutions, Central Security Services, New York, New York. Ms. Lydia Svendsen is the only worker in this subdivision.

The amended notice applicable to TA-W-82,634, TA-W-82,634A, TA-W-82,634B, TA-W-82,634C, TA-W-82,634D, TA-W-82,634E and TA-W-82,634F are hereby issued as follows:

All workers from Prudential, Global Business Technology Solutions, Central Security Services, Dresher, Pennsylvania (TA-W-82,634), Prudential, Global Business Technology, Solutions, Central Security Services, Iselin, New Jersey (TA-W-82,634A), Prudential, Global Business Technology, Solutions, Central Security Services, Plymouth, Minnesota (TA-W-82,634B), Prudential, Global Business Technology, Solutions, Central Security Services, Scottsdale, Arizona (TA-W-82,634C), Prudential, Global Business Technology Solutions, Central Security Services, Roseland, New Jersey (TA-W-82,634D), Prudential, Global Business Technology Solutions, Central Security Services, Jacksonville, Florida (TA-W-82,634E) and Prudential, Global Business Technology Solutions, Central Security Services, New York, New York (TA-W-82,634F), who became totally or partially separated from employment on or after April 4, 2012 through June 10, 2015, and all workers in the group threatened with total or partial separation from employment on the date of certification through two years from the date of certification, are eligible to apply for adjustment assistance under Chapter 2 of Title II of the Trade Act of 1974, as amended.

Signed at Washington, DC, this 28th day of June 2013.
Michael W. Jaffe,
Certifying Officer, Office of Trade Adjustment Assistance.

[FR Doc. 2013-16733 Filed 7-11-13; 8:45 am]

BILLING CODE 4510-FN-P